Proclamation 8878 of October 1, 2012

National Energy Action Month, 2012

By the President of the United States of America

A Proclamation

A secure energy future is vital to an economy built to last. When we use American energy to power our homes, businesses, and vehicles, we create new American jobs, grow new American industries, and safeguard our national security and our economic potential. As demand for energy increases worldwide, our Nation must continue to lead the world in a rapidly evolving energy market by pursuing safe and responsible domestic energy production, promoting efficiency, and developing clean energy and renewable fuels.

My Administration is pursuing an all-of-the-above strategy to put energy independence within our reach and power a sustainable, vibrant economy. We took bold action to double our use of renewable energy sources like solar, wind, and geothermal; finalized new standards to nearly double the fuel efficiency of our Nation's automobiles by 2025; and invested in energy-saving upgrades in homes, public buildings, and businesses across our Nation. These programs spur innovation, make American manufacturers more competitive, and save families money on their energy bills.

As we lay the foundation for a clean energy economy, we must also take advantage of the abundant energy resources we have here at home and reduce our dependence on oil imports. That is why my Administration continues to open millions of acres for oil and gas exploration. Today, domestic oil production is at the highest level in nearly a decade, while oil imports have fallen to the lowest level in nearly 20 years.

Thanks to pioneering new technologies developed right here at home, America is also now the world's leading producer of natural gas. As production has increased, it has boosted our manufacturing, dramatically reduced prices, and created more jobs for the American people. Along with advances in renewable energy and increased efficiency, our investments in natural gas can help reduce greenhouse gas emissions that cause climate change.

Moving forward, we will continue to invest in new technologies that put Americans to work in the jobs of tomorrow—from building advanced wind turbines and long-lasting batteries to developing cutting-edge clean coal technologies and next generation biofuels. We will promote growth and job creation throughout the entire energy sector by further developing our domestic energy resources and supporting our nuclear industry. And we will modernize our electric grid, allowing us to better integrate renewable energy, increase efficiency and reliability, and empower families to make informed decisions about their energy consumption.

Finally, we must also harness our greatest natural resource—the creativity, drive, and entrepreneurial spirit of the American people. Across our country, scientists and engineers are laying the groundwork for the next big energy breakthrough, farmers across rural America are producing homegrown fuels, students are promoting conservation in their communities, and autoworkers are manufacturing the next generation of fuel-efficient cars. If we continue to invest in American potential, I am confident that new plants and factories will dot our landscape and new energy will power our future.

NOW, THEREFORE, I, BARACK OBAMA, President of the United States of America, by virtue of the authority vested in me by the Constitution and the laws of the United States, do hereby proclaim October 2012 as National Energy Action Month. I call upon the citizens of the United States to recognize this month by working together to achieve greater energy security, a more robust economy, and a healthier environment for our children.

IN WITNESS WHEREOF, I have hereunto set my hand this first day of October, in the year of our Lord two thousand twelve, and of the Independence of the United States of America the two hundred and thirty-seventh.

[FR Doc. 2012-24699

Filed 10-3-12; 8:45 am]

Billing code 3295-F3